ENVIRONMENTAL PROTECTION AGENCY

40 CFR Part 52

[EPA-R07-OAR-2015-0394; FRL-9944-19-Region 7]

Approval of Air Quality State Implementation Plans (SIP); State of Iowa; Infrastructure SIP Requirements for the 2008 Lead National Ambient Air Quality Standard (NAAQS); Correction

AGENCY: Environmental Protection Agency (EPA).

ACTION: Direct final rule; technical amendment.

SUMMARY: The Environmental Protection Agency (EPA) inadvertently approved and codified incorrect entry numbers in the part 52 instructions for the final rule action published on November 2, 2015. This technical amendment amends the part 52 codification instructions.

DATES: This action is effective March 25, 2016.

FOR FURTHER INFORMATION CONTACT: Jan Simpson at (913) 551-7089, or by email at simpson.jan@epa.gov.

SUPPLEMENTARY INFORMATION: On November 2, 2015 (80 FR 67335), EPA published a final rule approving a SIP revision for Iowa that approved Iowa's November 4, 2011, submission addressing the requirements of the CAA sections 110(a)(1) and (2) as applicable to the 2008 Lead NAAQS. Specifically, EPA approved the following infrastructure elements: 110(a)(2)(A), (B), (C), (D), (E), (F), (G), (H), (J), (K), (L), and (M) which are necessary to implement, maintain, and enforce the 2008 Lead NAAQS. EPA also approved Iowa's May 11, 2015, submission to include article 1, section 2 of the Iowa Constitution, and portions of the Iowa code and the Iowa Administrative Code to codify the relevant state laws as applied to conflict of interest requirements of sections 110(a)(2)(E) and 128 of the CAA.

This technical amendment revises the erroneous part 52 instructions published in the Federal Register on November 2, 2015 (80 FR 67335) in the third column on page 67336 to read as follows: Amend § 52.820 by adding new entries (e) (40) and (41).

Dated: March 17, 2016.
Mark Hague,
Regional Administrator, Region 7.

Chapter I, title 40 of the Code of Federal Regulations is amended as follows:

PART 52—APPROVAL AND PROMULGATION OF IMPLEMENTATION PLANS

1. The authority citation for part 52 continues to read as follows:

Authority: 42 U.S.C. 7401 et seq.

Subpart Q—Iowa

2. Amend § 52.820 by adding entries (e)(40) and (41) to read as follows:

§ 52.820 Identification of plan.

* * * * *

(e)* * *

EPA-Approved Iowa Nonregulatory Provisions
Name of nonregulatory SIP provision | Applicable geographic area or nonattainment area | State submittal date | EPA Approval date | Explanation
* * * * * * *
(40) Sections 110(a)(1) and (2) Infrastructure Requirements 2008 Lead NAAQS | Statewide | 11/4/11 | 11/2/15; Correction 3/25/16 [Insert Federal Register citation] | This action addresses the following CAA elements: 110(a)(2)(A), (B), (C), (D), (E), (F), (G), (H), (J), (K), (L), and (M). 110(a)(2)(I) is not applicable.
(41) Section 128 Declaration: Conflicts of Interest Provisions;
Constitution of the State of Iowa, Article 1, Section 2. |  |  |  | This action addresses the following sections of the Constitution of the State of Iowa, Article 1, section 2;
Iowa Code: 4.4.(5), 7E.4, Chapter 68B |  |  |  | Iowa Code : 4.4 (5), 7e.4, Chapter 68B;
Iowa Administrative Code: 351 IAC 6.11, 351 IAC 6.14(2), 351 IAC 6.19, 351 IAC 7.1-7.2, 567 IAC 1.11 (1-9) | Statewide | 5/11/15 | 11/2/15; Correction 3/25/16 [Insert Federal Register citation] | Iowa Administrative Code: 351 IAC 6.11, 351 IAC 6.14(2), 351 IAC 6.19, 351 IAC 7.1-7.2, 567 IAC 1.11(1-9).

[FR Doc. 2016-06705 Filed 3-24-16; 8:45 am]

BILLING CODE 6560-50-P